DEPARTMENT OF ENERGY

Federal Energy Regulatory Commission

Notice of Application for Non-Project Use of Project Lands and Waters and Soliciting Comments, Motions To Intervene, and Protests

March 27, 2007.

Take notice that the following application has been filed with the Commission and is available for public inspection:

a. Application Type: Non-Project Use of Project Lands and Waters.

b. Project No: 2009-094.

c. Date filed: March 8, 2007.

d. Applicant: Virginia Electric and Power Company.

e. Name of Project: Roanoke Rapids and Gaston Project.

f. Location: The project is located on the Roanoke River, in Brunswick and Mecklenburg Counties, Virginia and Halifax, Warren, and Northampton Counties, North Carolina.

g. Filed Pursuant to: Federal Power Act, 16 U.S.C. 791(a)-825(r) and 799 and 801.

h. Applicant Contact: Jim Thornton, Dominion Generation, Innsbrook Technical Center, 1 NE 5000 Dominion Boulevard, Geln Allen, VA 23060, (804) 273-3257.

i. FERC Contact: Rebecca Martin at 202-502-6012, or e-mail Rebecca.martin@ferc.gov.

j. Deadline for filing comments and or motions: April 27, 2007.

All documents (original and eight copies) should be filed with: Office of the Secretary, Federal Energy Regulatory Commission, 888 First Street, NE., Washington DC 20426. Please include the project number (P-2009-094) on any comments or motions filed. Comments, protests, and interventions may be filed electronically via the internet in lieu of paper. See, 18 CFR 385.2001(a)(1)(iii) and the instructions on the Commission's Web site under the “e-Filing” link. The Commission strongly encourages e-filings.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Application: The licensee requests permission to allow Lakeside Commons, LLC (permittee) to construct a new marina at Lakeside Park that was formerly used as a trailer park and private multi-slip facility. The facility would serve a privately owned planned residential townhouse community that will consist of 59 units. The proposed marina would be constructed along a 1,606 linear foot section of Lake Gaston's shoreline along Pea Hill Creek north of Gasburg Road. The permittee would remove the existing piers, boathouse structures, bulkheads, and boat ramps. These structures would be replaced by rip rap, two pier structures within the cove and seven six-foot wide access walkways perpendicular to the shoreline. The total number of proposed boat slips is 57 inner boat slips: 55 slips will be for homeowner use plus two additional boat slips for use by the Virginia Department of Game and Inland Fisheries or another state or federal agency. Each boat slip will be covered and contain a lift.

l. Location of Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Philis J. Posey,
Acting Secretary.

[FR Doc. E7-5999 Filed 3-30-07; 8:45 am]

BILLING CODE 6717-01-P